ENVIRONMENTAL PROTECTION AGENCY

[ER-FRL-9004-5]

Environmental Impacts Statements; Notice of Availability

Responsible Agency: Office of Federal Activities, General Information (202) 564-7146 or http://www.epa.gov/compliance/nepa/.

Weekly receipt of Environmental Impact Statements Filed 08/06/2012 Through 08/10/2012

Pursuant to 40 CFR 1506.9

Notice

Section 309(a) of the Clean Air Act requires that EPA make public its comments on EISs issued by other Federal agencies. EPA's comment letters on EISs are available at: http://www.epa.gov/compliance/nepa/eisdata.html.

SUPPLEMENTARY INFORMATION: Starting October 1, 2012, EPA will not accept paper copies or CDs of EISs for filing purposes; all submissions on or after October 1, 2012 must be made through e-NEPA. While this system eliminates the need to submit paper or CD copies to EPA to meet filing requirements, electronic submission does not change requirements for distribution of EISs for public review and comment. To begin using e-NEPA, you must first register with EPA's electronic reporting site— https://cdx.epa.gov/epa_home.asp.

EIS No. 20120264, Final EIS, USFS, CA, On Top Hazardous Fuels Reduction Project, To Disclose the Environmental Effects of a Federal Proposal on National Forest System (NFS) Land, Plumas National Forest, Feather River Ranger District, Plumas, Butte Counties, CA, Review Period Ends: 09/17/2012, Contact: Carol Spinos 530-534-6500.

EIS No. 20120265, Draft EIS, FHWA, MT, Billings Bypass Improvements, Connecting Interstate 90 (I-90) east of Billings with Old Highway (Old Hwy 312), Possible USACE Section 10 and 404 Permits, Yellowstone County, MT, Comment Period Ends: 10/01/2012, Contact: Brian Hasselbach 406-441-3908.

EIS No. 20120266, Draft EIS, USFS, CO, Village at Wolf Creek Access Project, Conveyance of Non-Federal Land to the U.S. in Exchange for National Forest System Lands Managed by the Rio Grande National Forest, Mineral County, CO, Comment Period Ends: 10/01/2012, Contact: Harold Dyer 719-852-6215.

EIS No. 20120267, Draft EIS, USN, VA, Outdoor Research, Development, Test and Evaluation Activities within the Potomac River Test Range and Explosives Experimental Area Complexes, the Mission Area and Special-Use Airspace at Naval Support Facility Dahlgren, Expansion, Dahlgren, VA, Comment Period Ends: 10/01/2012, Contact: Jennifer Boyd 540-653-8695.

Amended Notices

EIS No. 20120184, Draft EIS, NOAA, 00, Issuing Annual Quotas to the Alaska Eskimo Whaling Commission (AEWC) for a Subsistence Hunt on Bowhead Whales for the Years 2013 through 2017/2018, Comment Period Ends: 08/31/2012, Contact: Ellen Sebastian 907-586-7247. Revision to FR Notice Published 06/15/2012; Extending Comment Period from 08/14/2012 to 08/31/2012.

EIS No. 20120197, Draft EIS, USFS, ID, Golden Hand No. 1 and No. 2 Lode Mining Claims Project, Krassel Ranger District, Payette National Forest, Valley and Idaho Counties, ID, Comment Period Ends: 08/13/2012, Contact: Jeff Hunteman 208-634-0434. Revision to FR Notice Published 06/29/2012; Extending Comments Period from 08/13/2012 to 09/17/2012.

EIS No. 20120263, Final EIS, USFS, CA, Barren Ridge Renewable Transmission Project, Construct, Operate, Maintain, and Upgrade 220kV Electrical Transmission Lines and Switching Stations, Kern and Los Angeles Counties, CA, Review Period Ends: 09/10/2012, Contact: Justin Seastrand 626-574-5278(AFS), Lynette Elser 951-697-5233(BLM).

Revision to FR Notice Published 08/10/2012; Review Period ends 09/10/212. More information on the U.S. Forest Service's appeal process is available at http://www.ladwp.com/barrenridge.

Dated: July 14, 2012.
Aimee Hessert,
Deputy Director, NEPA Compliance Division, Office of Federal Activities.

[FR Doc. 2012-20248 Filed 8-16-12; 8:45 am]

BILLING CODE 6560-50-P